DEPARTMENT OF DEFENSE

Department of the Air Force

Intent To Grant an Exclusive Patent License

AGENCY: Department of the Air Force, DOD.

ACTION: Notice.

SUMMARY: Pursuant to the provisions of Part 404 of Title 37, Code of Federal Regulations, which implements Public Law 96-517, the Department of the Air Force announces its intention to grant Idaho Technology, Inc., a corporation of the State of Idaho, an exclusive license under the following pending patent application, claiming the benefit of provisional Patent Application Serial No. 60/877017, filed November 28, 2006:

Applicant: McAvin.

Filed: November 21, 2007.

Title: Rapid Detection of Dengue Virus.

The license described above will be granted unless an objection thereto, together with a request for an opportunity to be heard, if desired, is received in writing by the addressee set forth below, within fifteen (15) days from the date of publication of this Notice.

FOR FURTHER INFORMATION CONTACT: All communications concerning this Notice should be sent to Paul D. Heydon, Patent Attorney, Commercial Law Division, Office of the Staff Judge Advocate, 311th Human Systems Wing, Air Force Materiel Command, 8010 Chennault Path, Brooks City-Base, TX 78235, (210) 536-5359.

Bao-Anh Trinh,
Air Force Federal Register Liaison Officer.

[FR Doc. E7-24046 Filed 12-11-07; 8:45 am]

BILLING CODE 5001-05-P